DEPARTMENT OF AGRICULTURE

Forest Service

Missoula County Resource Advisory Committee

AGENCY: Forest Service, USDA.

ACTION: Notice of meeting.

SUMMARY: The Lolo National Forest's Missoula County Resource Advisory Committee (RAC) will meet on Monday, September 24, 2012 from 4:00 p.m. to 6:00 p.m., in Missoula, Montana. The purpose of the meeting is to review and vote on submitted proposals, and receive public comment on the meeting subjects and proceedings.

DATES: Monday, September 24, 2012 from 4 p.m. to 6 p.m.

ADDRESSES: Missoula County Courthouse, Room Admin B14; 199 W Pine St. Missoula, Mt 59802.

FOR FURTHER INFORMATION CONTACT: Boyd Hartwig; Address: Lolo National Forest, Building 24A Fort Missoula, Missoula, Montana 59804; Phone: 406-329-1024 email: bchartwig@fs.fed.us.

SUPPLEMENTARY INFORMATION: Agenda items to be covered include: (1) Review of individual member proposal rankings (2) brief discussion of proposals (3) vote on proposals in order of ranking (4) receive public comment (5) review old business. There will be an open comment period for the public at the start of the meeting.

Dated: August 27, 2012.
Paul Matter,
Missoula District Ranger.

[FR Doc. 2012-21646 Filed 8-31-12; 8:45 am]

BILLING CODE 3410-11-P